DEPARTMENT OF TRANSPORTATION

Federal Aviation Administration

14 CFR Part 39

[Docket No. FAA-2005-22406; Directorate Identifier 2002-NM-242-AD; Amendment 39-14270; AD 2005-19-05]

RIN 2120-AA64

Airworthiness Directives; Aerospatiale Model ATR42-500 Airplanes

AGENCY: Federal Aviation Administration (FAA), Department of Transportation (DOT).

ACTION: Final rule; correction.

SUMMARY: The FAA is correcting a typographical error in an existing airworthiness directive (AD) that was published in the Federal Register on September 14, 2005 (70 FR 54249). The error resulted in an incorrect Docket No. This AD applies to certain Aerospatiale Model ATR42-500 airplanes. This AD requires inspecting for correct installation of the fastener that attaches the ground braids on the elevator, modifying the forward bonded assembly of the elevator control rod, and corrective action if necessary.

DATES: Effective September 29, 2005.

ADDRESSES: The AD docket contains the proposed AD, comments, and any final disposition. You may examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2005-22406; the directorate identifier for this docket is 2002-NM-242-AD.

FOR FURTHER INFORMATION CONTACT: Dan Rodina, Aerospace Engineer, International Branch, ANM-116, Transport Airplane Directorate, FAA, 1601 Lind Avenue, SW., Renton, Washington 98055-4056; telephone (425) 227-2125; fax (425) 227-1149.

SUPPLEMENTARY INFORMATION: On September 6, 2005, the FAA issued AD 2005-19-05, amendment 39-14270 (70 FR 54249, September 14, 2005), for certain Aerospatiale Model ATR42-500 airplanes. This AD requires inspecting for correct installation of the fastener that attaches the ground braids on the elevator, modifying the forward bonded assembly of the elevator control rod, and corrective action if necessary.

As published, that AD specifies an incorrect Docket No. (i.e., FAA-2005-20406) throughout preamble and the regulatory text of the AD. The correct Docket No. is FAA-2005-22406.

No other part of the regulatory information has been changed; therefore, the final rule is not republished in the Federal Register.

The effective date of this AD remains September 29, 2005.

§ 39.13 [Corrected]

In the Federal Register of September 14, 2005, on page 54250, in the third column, paragraph 2. of PART 39—AIRWORTHINESS DIRECTIVES of AD 2005-19-05 is corrected to read as follows:

* * * * *

2005-19-05 Aerospatiale: Amendment 39-14270. Docket No. FAA-2005-22406; Directorate Identifier 2002-NM-242-AD.

* * * * *

Issued in Renton, Washington, on September 26, 2005.
Ali Bahrami,
Manager, Transport Airplane Directorate, Aircraft Certification Service.

[FR Doc. 05-19555 Filed 9-29-05; 8:45 am]

BILLING CODE 4910-13-P